DEPARTMENT OF TRANSPORTATION

Federal Aviation Administration

14 CFR Part 39

[Docket No. FAA-2011-1166; Directorate Identifier 2010-NM-169-AD; Amendment 39-16941; AD 2012-02-18]

RIN 2120-AA64

Airworthiness Directives; DASSAULT AVIATION Airplanes

AGENCY: Federal Aviation Administration (FAA), Department of Transportation (DOT).

ACTION: Final rule.

SUMMARY: We are adopting a new airworthiness directive (AD) for all DASSAULT AVIATION Model MYSTERE-FALCON 50 airplanes. This AD was prompted by reports of cracking of the flap tracks. This AD requires revising the maintenance program to include revised airworthiness limitations. We are issuing this AD to prevent cracking of the flap tracks, which could lead to flap asymmetry and loss of control of the airplane.

DATES: This AD becomes effective April 4, 2012.

The Director of the Federal Register approved the incorporation by reference of a certain publication listed in this AD as of April 4, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on November 2, 2011 (76 FR 67633). That NPRM proposed to correct an unsafe condition for the specified products. The MCAI states:

The Maintenance Procedure (MP) 57-607, related to non destructive check of the flap tracks 2 and 5, has been introduced thru revision 4 (01/2009) of section 5-10 of the Recommended Maintenance Schedules chapter of the Aircraft Maintenance Documentation.

After the implementation of this MP cracks have been detected in service.

* * * * *

Cracking of the flap tracks could lead to flap asymmetry and loss of control of the airplane. The required actions include revising the maintenance program to include “Non-Destructive Check of Flap Tracks 2 and 5,” Maintenance Procedure 57-607, of Chapter 5-40, “Airworthiness Limitations,” of the Dassault Falcon 50/50EX Maintenance Manual, Revision 21, dated June 2011. You may obtain further information by examining the MCAI in the AD docket.

Comments

We gave the public the opportunity to participate in developing this AD. We received no comments on the NPRM (76 FR 67633, November 2, 2011) or on the determination of the cost to the public.

Explanation of Change Made to This AD

We have revised the document citation for the service information referenced throughout this AD.

Conclusion

We reviewed the relevant data and determined that air safety and the public interest require adopting the AD with the change described previously—except for minor editorial changes. We have determined that these minor changes:

• Are consistent with the intent that was proposed in the NPRM (76 FR 67633, November 2, 2011) for correcting the unsafe condition; and

• Do not add any additional burden upon the public than was already proposed in the NPRM (76 FR 67633, November 2, 2011).

Costs of Compliance

We estimate that this AD will affect 250 products of U.S. registry. We also estimate that it will take about 1 work-hour per product to comply with the basic requirements of this AD. The average labor rate is $85 per work-hour. Based on these figures, we estimate the cost of this AD to the U.S. operators to be $21,250, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 67633, November 2, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-02-18 DASSAULT AVIATION: Amendment 39-16941. Docket No. FAA-2011-1166; Directorate Identifier 2010-NM-169-AD.

(a) Effective Date

This airworthiness directive (AD) becomes effective April 4, 2012.

(b) Affected ADs

None.

(c) Applicability

This AD applies to DASSAULT AVIATION Model MYSTERE-FALCON 50 airplanes, all serial numbers, certificated in any category.

(d) Subject

Air Transport Association (ATA) of America Code 57: Wings.

(e) Reason

This AD was prompted by reports of cracking of the flap tracks. We are issuing this AD to prevent cracking of the flap tracks, which could lead to flap asymmetry and loss of control of the airplane.

(f) Compliance

You are responsible for having the actions required by this AD performed within the compliance times specified, unless the actions have already been done.

(g) Actions

Within 30 days after the effective date of the AD, revise the maintenance program to include “Non-Destructive Check of Flap Tracks 2 and 5,” Maintenance Procedure 57-607, of Chapter 5-40, “Airworthiness Limitations,” of the Dassault Falcon 50/50EX Maintenance Manual, Revision 21, dated June 2011. The initial compliance time for doing the check is prior to the accumulation of 7,900 total flight cycles or within 600 flight cycles after the effective date of this AD, whichever occurs later.

(h) No Alternative Actions or Intervals

After accomplishing the revision required by paragraph (g) of this AD, no alternative actions (e.g., inspections) or intervals may be used unless the actions or intervals are approved as an alternative method of compliance (AMOC) in accordance with the procedures specified in paragraph (i)(1) of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; phone: 425-227-1137; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service

(j) Related Information

Refer to MCAI European Aviation Safety Agency (EASA) Airworthiness Directive 2010-0080, dated April 29, 2010; and “Non-Destructive Check of Flap Tracks 2 and 5,” Maintenance Procedure 57-607, of Chapter 5-40, “Airworthiness Limitations,” of the Dassault Falcon 50/50EX Maintenance Manual, Revision 21, dated June 2011; for related information.

(k) Material Incorporated by Reference

(1) You must use the following service information to do the actions required by this AD, unless the AD specifies otherwise. The Director of the Federal Register approved the incorporation by reference (IBR) under 5 U.S.C. 552(a) and 1 CFR part 51 of the following service information.

(i) “Non-Destructive Check of Flap Tracks 2 and 5,” Maintenance Procedure 57-607, of Chapter 5-40, “Airworthiness Limitations,” of the Dassault Falcon 50/50EX Maintenance Manual, Revision 21, dated June 2011.

(A) Only the title page of Chapter 5-40 specifies the revision level of 21, dated June 2011; the remaining pages show only the revision date of June 2011.

(B) The pages of the maintenance procedure show a revision date of January 2009.

(2) For service information identified in this AD, contact Dassault Falcon Jet, P.O. Box 2000, South Hackensack, New Jersey 07606; telephone 201-440-6700; Internet http://www.dassaultfalcon.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on January 26, 2012.
Kalene C. Yanamura,
Acting Manager, Transport Airplane Directorate, Aircraft Certification Service.

[FR Doc. 2012-3908 Filed 2-28-12; 8:45 am]

BILLING CODE 4910-13-P